DEPARTMENT OF EDUCATION

Indian Education Demonstration Grants for Indian Children

AGENCY: Department of Education.

ACTION: Notice reopening the deadline for the Indian Education Demonstration Grants for Indian Children program.

Catalog of Federal Domestic Assistance (CFDA) Number: 84.299A.

SUMMARY: On January 31, 2005 we published a notice in the Federal Register (70 FR 4822) that established a deadline of March 17, 2005 for mandatory electronic transmittal of applications for the fiscal year 2005 Indian Education Demonstration Grants for Indian Children competition through the Grants.gov system. The purpose of this notice is to reopen the notice inviting applications for this program, with a new deadline for transmittal of applications. The notice inviting applications is being reopened because some applicants may have experienced problems completing the multi-step Grants.gov registration process that prevented them from submitting timely applications or problems with server availability on the closing date.

DATES: The new deadline for the transmittal of applications or amendments to applications already submitted is April 25, 2005.

FOR FURTHER INFORMATION CONTACT: Lana Shaughnessy, Office of Indian Education, 400 Maryland Avenue, SW., Room 5C140, Washington, DC 20202-6335. Telephone: (202) 260-3774 or by e-mail: oiegrants@ed.gov.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 29, 2005.
Victoria Vasques,
Assistant Deputy Secretary for Indian Education.

[FR Doc. 05-6581 Filed 4-1-05; 8:45 am]

BILLING CODE 4000-01-P